OFFICE OF PERSONNEL MANAGEMENT

Excepted Service

AGENCY: U.S. Office of Personnel Management (OPM).

ACTION: Notice.

SUMMARY: This notice identifies Schedule A, B, and C appointing authorities applicable to a single agency that were established or revoked from June 1, 2016 to June 30, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during June 2016.

Schedule B

No schedule B authorities to report during June 2016.

Schedule C

The following Schedule C appointing authorities were approved during June 2016.

Agency name | Organization name | Position title | Authorization No. | Effective date
Department of Agriculture | Foreign Agricultural Service | Special Assistant | DA160119 | 6/1/2016
| Office of the Under Secretary Farm and Foreign Agricultural Service | Senior Advisor | DA160137 | 6/10/2016
| Office of the Assistant Secretary for Civil Rights | Chief of Staff | DA160143 | 6/22/2016
| Office of Communications | Advance Associate | DA160144 | 6/23/2016
| Office of the Secretary | Confidential Assistant | DA160147 | 6/23/2016
|  | White House Liaison | DA160141 | 6/22/2016
| Office of the Assistant Secretary for Civil Rights | Senior Advisor | DA160140 | 6/24/2016
| Office of the Under Secretary for Rural Development | Special Advisor | DA160142 | 6/24/2016
| Office of the Assistant Secretary for Congressional Relations | Deputy Director, Intergovernmental Affairs | DA160136 | 6/10/2016
|  | Director of Oversight | DA160145 | 6/24/2016
|  | Legislative Analyst | DA160148 | 6/24/2016
|  | Confidential Assistant | DA160149 | 6/24/2016
Department of Commerce | Office of the Assistant Secretary for Economic Development | Director of Public Affairs | DC160157 | 6/3/2016
| Office of Legislative and Intergovernmental Affairs | Director of Intergovernmental Affairs | DC160161 | 6/17/2016
| Advocacy Center | Policy Advisor | DC160162 | 6/17/2016
| Office of Business Liaison | Senior Advisor | DC160164 | 6/17/2016
| Economics and Statistics Administration | Senior Advisor | DC160163 | 6/22/2016
| Office of Public Affairs | Press Assistant | DC160165 | 6/22/2016
Council on Environmental Quality | Council on Environmental Quality | Associate Director for Land and Water | EQ160001 | 6/24/2016
Department of Defense | Office of the Under Secretary of Defense (Policy) | Chief of Staff for Special Operations and Combatting Terrorism | DD160151 | 6/8/2016
Department of the Army | Office of the Secretary | Special Assistant | DW160048 | 6/17/2016
Department of Education | Office of Legislation and Congressional Affairs | Deputy Chief of Staff Confidential Assistant | DB160095 DB160103 | 6/7/2016 6/27/2016
| Office of the Under Secretary | Special Assistant | DB160096 | 6/7/2016
|  | Confidential Assistant | DB160098 | 6/7/2016
| Office of Planning, Evaluation and Policy Development | Confidential Assistant Senior Policy Advisor | DB160097 DB160108 | 6/7/2016 6/24/2016
|  | Policy Advisor | DB160100 | 6/10/2016
| Office of Career Technical and Adult Education | Confidential Assistant | DB160099 | 6/16/2016
Department of Energy | Assistant Secretary for Congressional and Intergovernmental Affairs | Legislative Affairs Advisor Special Advisor | DE160130 DE160131 | 6/10/2016 6/10/2016
| Office of Public Affairs | Deputy Director, Office of Public Affairs | DE160132 | 6/17/2016
| Office of the Secretary | Special Assistant | DE160134 | 6/17/2016
|  | Special Advisor for Clean Energy and Risk Management | DE160133 | 6/30/2016
| Office of Assistant Secretary for International Affairs | Special Assistant | DE160135 | 6/29/2016
Department of Health and Human Services | Office of the Secretary | Confidential Assistant (2) | DH160131 DH160145 | 6/2/2016 6/24/2016
|  | Policy Advisor | DH160155 | 6/17/2016
| Office of the Assistant Secretary for Health | Confidential Assistant Speechwriter | DH160143 DH160139 | 6/7/2016 6/2/2016
| Office of Refugee Resettlement/Office of the Director | Chief of Staff | DH160147 | 6/13/2016
| Office of the Administrator, Health Resources and Services Administration | Policy Advisor | DH160149 | 6/13/2016
| Office of the Assistant Secretary for Public Affairs | Communications Advisor | DH160150 | 6/13/2016
| Administration for Children and Families | Senior Advisor | DH160151 | 6/13/2016
| National Institutes of Health | Policy Analyst | DH160140 | 6/21/2016
Department of Homeland Security | Office of the General Counsel | Special Assistant | DM160261 | 6/8/2016
| Office of the Under Secretary for National Protection and Programs Directorate | Senior Advisor | DM160252 | 6/16/2016
| Office for Civil Rights and Civil Liberties | Advisor | DM160257 | 6/16/2016
| Federal Emergency Management Agency | Press Secretary | DM160270 | 6/27/2016
Department of the Interior | Bureau of Land Management | Senior Advisor | DI160070 | 6/1/2016
| Bureau of Reclamation | Special Assistant | DI160073 | 6/9/2016
| Bureau of Ocean Energy Management | Senior Advisor | DI160075 | 6/24/2016
Department of Justice | Civil Rights Division | Senior Counsel | DJ160112 | 6/3/2016
| Office of Public Affairs | Deputy Press Secretary | DJ160113 | 6/7/2016
| Antitrust Division | Chief of Staff | DJ160115 | 6/7/2016
| Office on Violence Against Women | Confidential Assistant | DJ160104 | 6/9/2016
Department of Labor | Office of Congressional and Intergovernmental Affairs | Senior Legislative Officer Legislative Officer | DL160095 DL160101 | 6/3/2016 6/29/2016
| Office of the Assistant Secretary for Policy | Policy Advisor | DL160096 | 6/6/2016
National Endowment for the Arts | Office of the Chairman | White House Liaison/Senior Advisor | NA160006 | 6/22/2016
Office of Management and Budget | Office of Communications | Assistant Press Secretary | BO160038 | 6/2/2016
| Office of the Director | Confidential Assistant | BO160040 | 6/10/2016
|  | Assistant to the Director | BO160041 | 6/10/2016
| Office of E-Government and Information Technology | Confidential Assistant | BO160042 | 6/20/2016
Department of State | Office of the Counselor | Special Assistant | DS160107 | 6/3/2016
| Bureau of International Security and Nonproliferation | Staff Assistant | DS160108 | 6/3/2016
| Bureau of Legislative Affairs | Deputy Assistant Secretary | DS160109 | 6/3/2016
| Office To Monitor and Combat Trafficking In Persons | Staff Assistant | DS160106 | 6/8/2016
| Foreign Policy Planning Staff | Senior Advisor (2) | DS160112 | 6/15/2016
|  |  | DS160115 | 6/22/2016
| Bureau of Economic and Business Affairs | Special Assistant | DS160117 | 6/30/2016
Department of Transportation | Office of the Administrator, Federal Transit Administration | Associate Administrator for Communications and Legislative Affairs | DT160065 | 6/10/2016
| Office of Assistant Secretary for Administration | Deputy Assistant Secretary for Management and Administration | DT160067 | 6/10/2016
| Office of the Secretary | White House Liaison | DT160068 | 6/10/2016
Department of the Treasury | Office of the Secretary of the Treasury | Special Assistant Senior Advisor | DY160096 DY160097 | 6/17/2016 6/20/2016
| Office of the Assistant Secretary (Legislative Affairs) | Special Assistant | DY160099 | 6/30/2016

The following Schedule C appointing authorities were revoked during June 2016.

Agency name | Organization name | Position title | Request No. | Date vacated
Department of Agriculture | Farm Service Agency | Chief of Staff | DA150168 | 06/01/2016
| Natural Resources Conservation Service | Special Assistant | DA090190 | 06/11/2016
| Office of the Assistant Secretary for Congressional Relations | Legislative Analyst Senior Legislative Analyst | DA150167 DA150196 | 06/11/2016 06/25/2016
| Office of Communications | Advance Associate | DA150044 | 06/25/2016
| Office of the Assistant Secretary for Civil Rights | Senior Advisor | DA150102 | 06/25/2016
| Office of the Secretary | Confidential Assistant | DA160019 | 06/25/2016
|  | Deputy White House Liaison | DA160073 | 06/25/2016
|  | White House Liaison | DA160007 | 06/25/2016
Department of Commerce | Office of Public Affairs | Deputy Press Secretary | DC150132 | 06/06/2016
| Office of the Under Secretary | Deputy Director, Office of Public Affairs | DC140063 | 06/11/2016
|  | Special Assistant | DC150107 | 06/24/2016
| Bureau of Industry and Security | Special Advisor to the Under Secretary | DC160150 | 06/24/2016
| Office of Legislative and Intergovernmental Affairs | Director of Legislative Outreach Director of Intergovernmental Affairs | DC150091 DC090104 | 06/24/2016 06/25/2016
| Office of Director General of the United States and Foreign Commercial Service and Assistant Secretary for Global Markets | Special Advisor | DC150102 | 06/25/2016
| Office of Executive Secretariat | Associate Director | DC150120 | 06/25/2016
Office of the Secretary of Defense | Office of the Under Secretary of Defense (Personnel and Readiness) | Special Assistant to the Under Secretary of Defense (Personnel and Readiness) | DD160031 | 06/01/2016
| Office of the Under Secretary of Defense (Acquisition, Technology and Logistics) | Special Assistant to the Under Secretary of Defense (Acquisition, Technology and Logistics) | DD140008 | 06/25/2016
Department of Education | Office of Elementary and Secondary Education | Confidential Assistant, Special Projects | DB160088 | 06/10/2016
| Office of Legislation and Congressional Affairs | Confidential Assistant | DB150091 | 06/11/2016
| Office for Civil Rights | Special Projects Manager | DB160066 | 06/24/2016
| Office of the Under Secretary | Executive Director, White House Initiative on Historically Black Colleges and Universities | DB150126 | 06/30/2016
Department of Energy | Office of Assistant Secretary for Congressional and Intergovernmental Affairs | Legislative Affairs Specialist (2) | DE140085 DE140085 | 06/11/2016 06/11/2016
| Office of Public Affairs | Deputy Director, Office of Public Affairs | DE150077 | 06/11/2016
| Office of Assistant Secretary for Energy Efficiency and Renewable Energy | Director, Legislative Affairs | DE140113 | 06/25/2016
Department of Health and Human Services | Office of Health Reform | Director of Delivery System Reform | DH150129 | 06/10/2016
| Office of the Administrator, Health Resources and Services Administration | Special Assistant | DH150143 | 06/12/2016
| Office of the Assistant Secretary for Public Affairs | Communications Director for Human Services | DH150040 | 06/12/2016
|  | Confidential Assistant | DH150127 | 06/12/2016
|  | National Press Secretary for Health Care | DH150171 | 06/12/2016
|  | Director of Speechwriting and Senior Advisor | DH160078 | 06/24/2016
| Office of Communications | Senior Advisor to the Communications Director Outreach | DH150002 | 06/25/2016
| Office of the Secretary | Confidential Assistant | DH150170 | 06/25/2016
Department of Homeland Security | Office of the Privacy Officer | Special Assistant to the Chief Privacy Officer | DM150170 | 06/03/2016
| Office of the Assistant Secretary for Policy | Special Assistant in Information Sharing Policy | DM160149 | 06/10/2016
| Office of the General Counsel | Confidential Assistant | DM150212 | 06/11/2016
| Office of the Under Secretary for Science and Technology | Advisor | DM150032 | 06/14/2016
| Office of the Assistant Secretary for Intergovernmental Affairs | Special Advisor | DM140007 | 06/16/2016
| Office of the Under Secretary for National Protection and Programs Directorate | Advisor | DM150068 | 06/25/2016
Department of Housing and Urban Development | Office of Public Affairs | Director of Speechwriting | DU150019 | 06/09/2016
Department of the Interior | United States Geological Survey | Confidential Assistant | DI140051 | 06/11/2016
Department of Justice | Office of Legislative Affairs | Attorney Advisor and Intergovernmental Liaison | DJ150011 | 06/10/2016
| Community Oriented Policing Services | Chief of Staff | DJ140041 | 06/24/2016
Department of Labor | Employee Benefits Security Administration | Special Assistant | DL150050 | 06/25/2016
| Mine Safety and Health Administration | Special Assistant | DL150008 | 06/25/2016
| Office of Public Affairs | Speech Writer | DL130011 | 06/25/2016
National Endowment for the Arts | Office of the Chairman | Scheduler | NA140009 | 06/14/2016
|  | Director of Public Affairs | NA140002 | 06/25/2016
|  | White House Liaison/Advisor to the Chief of Staff | NA150002 | 06/25/2016
Office of Management and Budget | Office of Legislative Affairs | Deputy to the Associate Director for Legislative Affairs (House) | BO110005 | 06/15/2016
Department of State | Foreign Policy Planning Staff | Senior Advisor | DS140112 | 06/11/2016
| Office of the Counselor | Special Assistant | DS150080 | 06/11/2016
| Bureau of International Security and Nonproliferation | Staff Assistant | DS140076 | 06/25/2016
| Bureau of Legislative Affairs | Legislative Management Officer | DS150099 | 06/25/2016
| Office of International Information Programs | Staff Assistant | DS160058 | 06/26/2016
Department of Transportation | Office of the Secretary | Deputy White House Liaison | DT150081 | 06/11/2016
|  | White House Liaison | DT150054 | 06/11/2016
Department of the Treasury | Office of the Under Secretary for Terrorism and Financial Intelligence | Senior Policy Advisor | DY140047 | 06/25/2016

Authority: 5 U.S.C. 3301 and 3302; E.O. 10577, 3 CFR, 1954-1958 Comp., p. 218.

U.S. Office of Personnel Management.
Beth F. Cobert,
Acting Director.

[FR Doc. 2016-29130 Filed 12-2-16; 8:45 am]

BILLING CODE 6325-39-P